DEPARTMENT OF THE TREASURY

Submission for OMB Review; Comment Request

November 3, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before December 8, 2006 to be assured of consideration.

Alcohol and Tobacco Tax and Trade Bureau (TTB)

OMB Number: 1513-XXXX.

Type of Review: New.

Title: Application, Permit and Report—Wine and Beer (Puerto Rico)—Application, Permit and Report—Distilled Spirits Products (Puerto Rico).

Form: TTB 5100.21 and 5110.51.

Description: TTB Form 5100.21 is a permit to compute the tax on, tax pay, and withdraw shipments of wine or beer from Puerto Rico to the United States, as substantively required by 27 CFR 26.93. TTB Form 5110.51 is a permit to compute the tax on, tax pay, and withdraw shipments of distilled spirits products from Puerto Rico to the United States, as substantively required by 27 CFR 26.78.

Respondents: Business or other for-profits.

Estimated Total Burden Hours: 6 hours.

OMB Number: 1513-0016.

Type of Review: Reinstatement.

Title: Drawback on Wines Exported.

Form: TTB 5120.24.

Description: Exporters of wines that were produced, packaged, manufactured, or bottled in the U.S. may file a claim for drawback of the taxes that have been paid or determined on the wine. This form enables TTB to protect the revenue and prevent fraudulent claims.

Respondents: Business or other for-profits.

Estimated Total Burden Hours: 94 hours.

Clearance Officer: Frank Foote (202) 927-9347, Alcohol and Tobacco Tax and Trade Bureau, Room 200 East, 1310 G. Street, NW., Washington, DC 20005.

OMB Reviewer: Alexander T. Hunt (202) 395-7316, Office of Management and Budget, Room 10235, New Executive Office Building, Washington, DC 20503.

Michael A. Robinson,
Treasury PRA Clearance Officer.

[FR Doc. E6-18849 Filed 11-7-06; 8:45 am]

BILLING CODE 4810-31-P